DEPARTMENT OF ENERGY

Federal Energy Regulatory Commission

Combined Notice of Filings #1

Take notice that the Commission received the following exempt wholesale generator filings:

Docket Numbers: EG19-148-000.

Applicants: Grazing Yak Solar, LLC.

Description: Notice of Self-Certification of Exempt Wholesale Generator Status of Grazing Yak Solar, LLC.

Filed Date: 7/10/19.

Accession Number: 20190710-5127.

Comments Due: 5 p.m. ET 7/31/19.

Docket Numbers: EG19-149-000.

Applicants: Caden Energix Hickory LLC.

Description: Self-Certification of EG or FC of Caden Energix Hickory LLC.

Filed Date: 7/11/19.

Accession Number: 20190711-5099.

Comments Due: 5 p.m. ET 8/1/19.

Take notice that the Commission received the following electric rate filings:

Docket Numbers: ER19-1900-001.

Applicants: Golden Spread Electric Cooperative, Inc.

Description: Compliance filing: ER19-1900 Deficiency Letter Response to be effective 5/20/2019.

Filed Date: 7/11/19.

Accession Number: 20190711-5057.

Comments Due: 5 p.m. ET 8/1/19.

Docket Numbers: ER19-1902-001.

Applicants: Deseret Generation & Transmission Co-operative, Inc.

Description: Compliance filing: ER19-1902 Deficiency Letter Response to be effective 5/20/2019.

Filed Date: 7/11/19.

Accession Number: 20190711-5019.

Comments Due: 5 p.m. ET 8/1/19.

Docket Numbers: ER19-1943-001.

Applicants: NorthWestern Corporation.

Description: Compliance filing: Response to Deficiency Letter re Order No. 845/845-A Compliance Filing to be effective 5/22/2019.

Filed Date: 7/11/19.

Accession Number: 20190711-5072.

Comments Due: 5 p.m. ET 8/1/19.

Docket Numbers: ER19-2376-000.

Applicants: Deseret Generation & Transmission Co-operative, Inc.

Description: Compliance filing: OATT Order No. 845 Compliance—Deficiency Response to be effective 5/20/2019.

Filed Date: 7/11/19.

Accession Number: 20190711-5015.

Comments Due: 5 p.m. ET 8/1/19.

Docket Numbers: ER19-2377-000.

Applicants: Midcontinent Independent System Operator, Inc., Michigan Electric Transmission Company.

Description: § 205(d) Rate Filing: 2019-07-11_SA 3330 Assembly Solar LLC-METC E&P (J796) to be effective9/10/2019.

Filed Date: 7/11/19.

Accession Number: 20190711-5047.

Comments Due: 5 p.m. ET 8/1/19.

Docket Numbers: ER19-2378-000.

Applicants: Sterlington Power LLC.

Description: Compliance filing: Notice of Succession, Baseline Re-file, and Request for Admin Cancellation to be effective 5/15/2019.

Filed Date: 7/11/19.

Accession Number: 20190711-5049.

Comments Due: 5 p.m. ET 8/1/19.

Docket Numbers: ER19-2379-000.

Applicants: Duke Energy Progress, LLC.

Description: § 205(d) Rate Filing: DEP-DEC ASOA (Asheville CC) Concurrence Filing (DEP SA No. 362) to be effective 6/19/2019.

Filed Date: 7/11/19.

Accession Number: 20190711-5056.

Comments Due: 5 p.m. ET 8/1/19.

Docket Numbers: ER19-2380-000.

Applicants: Midcontinent Independent System Operator, Inc.

Description: § 205(d) Rate Filing: 2019-07-11_SA 3228 Interstate Power and Light Co-ITC Midwest 1st Rev GIA (J495) to be effective 6/26/2019.

Filed Date: 7/11/19.

Accession Number: 20190711-5074.

Comments Due: 5 p.m. ET 8/1/19.

Docket Numbers: ER19-2381-000.

Applicants: PJM Interconnection, L.L.C.

Description: § 205(d) Rate Filing: Amendment to ISA, SA No. 2053, NQ121 (amend) to be effective 6/2/2015.

Filed Date: 7/11/19.

Accession Number: 20190711-5078.

Comments Due: 5 p.m. ET 8/1/19.

Docket Numbers: ER19-2382-000.

Applicants: Story County Wind, LLC.

Description: Baseline eTariff Filing: Story County Wind, LLC Application for Market-Based Rate Authority to be effective 9/10/2019.

Filed Date: 7/11/19.

Accession Number: 20190711-5081.

Comments Due: 5 p.m. ET 8/1/19.

Docket Numbers: ER19-2383-000.

Applicants: AEP Texas Inc.

Description: § 205(d) Rate Filing: AEPTX-Karankawa Wind I Interconnection Agreement First Amend & Restated to be effective 6/20/2019.

Filed Date: 7/11/19.

Accession Number: 20190711-5082.

Comments Due: 5 p.m. ET 8/1/19.

Docket Numbers: ER19-2384-000.

Applicants: AEP Texas Inc.

Description: § 205(d) Rate Filing: AEPTX-La Chalupa Interconnection Agreement First Amend & Restated to be effective 6/25/2019.

Filed Date: 7/11/19.

Accession Number: 20190711-5083.

Comments Due: 5 p.m. ET 8/1/19.

Docket Numbers: ER19-2385-000.

Applicants: AEP Texas Inc.

Description: § 205(d) Rate Filing: AEPTX-Karankawa Wind II Interconnection Agreement First Amend & Restated to be effective 6/27/2019.

Filed Date: 7/11/19.

Accession Number: 20190711-5084.

Comments Due: 5 p.m. ET 8/1/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2019.
Nathaniel J. Davis, Sr.,
Deputy Secretary.

[FR Doc. 2019-15177 Filed 7-16-19; 8:45 am]

BILLING CODE 6717-01-P